DEPARTMENT OF TRANSPORTATION

Surface Transportation Board

[STB Finance Docket No. 34841 (Sub-No. 1)]

Union Pacific Railroad Company—Temporary Trackage Rights Exemption—BNSF Railway Company

BNSF Railway Company (BNSF), pursuant to a written trackage rights agreement entered into between BNSF and Union Pacific Railroad Company (UP), has agreed to provide UP with temporary overhead trackage rights, to expire on April 30, 2006, over BNSF's line of railroad between milepost 2.0, in Lake Yard, OR, and milepost 8.1, in North Portland Junction, OR, a distance of approximately 6.1 miles. The original trackage rights granted in Union Pacific Railroad Company—Temporary Trackage Rights Exemption—BNSF Railway Company, STB Finance Docket No. 34841 (STB served Mar. 20, 2006), covered the same line, but expire on March 30, 2006. The purpose of this transaction is to modify the temporary overhead trackage rights exempted in STB Finance Docket No. 34841 to extend the expiration date from March 30, 2006, to April 30, 2006.¹

¹ Under the agreement between the parties, the temporary trackage rights will run through the date on which BNSF ceases to use temporary trackage rights granted by UP between Vallard Jct. and North Portland Jct., OR, but no later than April 30, 2006.

The transaction is scheduled to be consummated on March 30, 2006. The modified temporary overhead trackage rights will allow UP to continue to perform maintenance work on its lines.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34841 (Sub-No. 1), must be filed with the Surface Transportation Board, 1925 K Street, NW., Washington, DC 20423-0001. In addition, a copy of each pleading must be served on Robert T. Opal, Union Pacific Railroad Company, 1400 Douglas Street, STOP 1580, Omaha, NE 68179.

Board decisions and notices are available on our Web site at “http://www.stb.dot.gov.”

Decided: March 30, 2006.
By the Board, David M. Konschnik, Director, Office of Proceedings.
Vernon A. Williams,
Secretary.

[FR Doc. E6-4933 Filed 4-6-06; 8:45 am]

BILLING CODE 4915-01-P